DEPARTMENT OF COMMERCE

Patent and Trademark Office

Agency Information Collection Activities; Submission to the Office of Management and Budget for Review and Approval; Comment Request; Patents External Quality Survey

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on the information collection renewal of 0651-0057 (Patents External Quality Survey), which helps the USPTO assess the impact of its information collection requirements and minimize the public's reporting burden. Public comments were previously requested via the Federal Register on May 1, 2025 during a 60-day comment period (90 FR 18648). This notice allows for an additional 30 days for public comments.

DATES: To ensure consideration, you must submit comments regarding this information collection on or before August 22, 2025.

ADDRESSES: Written comments and recommendations for this information collection should be submitted within 30 days of the publication of this notice on the following website, www.reginfo.gov/public/do/PRAMain. Find this particular information collection by selecting “Currently under 30-day Review-Open for Public Comments” or by using the search function and entering either the title of the information collection or the OMB Control Number, 0651-0057. Do not submit Confidential Business Information or otherwise sensitive or protected information.

FOR FURTHER INFORMATION CONTACT:

• This information collection request may be viewed at www.reginfo.gov/public/do/PRAMain. Follow the instructions to view Department of Commerce, USPTO information collections currently under review by OMB.

• Email: InformationCollection@uspto.gov. Include “0651-0057 information request” in the subject line of the message.

• Mail: Justin Isaac, Office of the Chief Administrative Officer, United States Patent and Trademark Office, P.O. Box 1450, Alexandria, VA 22313-1450.

• Telephone: Robyn Sirkis, Chief Patent Statistician Office, 571-270-0935

SUPPLEMENTARY INFORMATION:

Title: Patents External Quality Survey.

OMB Control Number: 0651-0057.

Abstract: The USPTO Quality Survey is designed to measure opinions about the services the USPTO provides to its patent application customers. This information collection contains a survey that the USPTO uses to gauge customer satisfaction with patent examination quality.

The results from this voluntary survey will assist the USPTO in guiding improvements and enhancements in the future. The USPTO conducts the Patents External Quality Survey as part of its quality improvement efforts. This survey narrows the focus of customer satisfaction to examination quality and uses a longitudinal, rotating panel design to assess changes in customer perceptions and to identify key areas for examiner training and opportunities for improvement. The USPTO uses this survey to identify problems with examination quality and works to resolve these issues in a timely manner. The USPTO surveys patent agents, attorneys, and other individuals from large domestic corporations (including those with 500+ employees), small and medium-sized businesses, independent inventors, and universities and other non-profit research organizations. This survey does not include foreign entities.

The random sample used in this survey is drawn from One Patent Service Gateway. The sample population is drawn from the top filing firms, which are entities that have filed more than five patent applications in a 12-month period. This ongoing survey is generally conducted twice a year. The USPTO uses a rotating panel design where participants take the survey twice in back-to-back survey periods (waves). Half the participants in each survey period are new and complete the survey for the first time and half return to complete the same survey for a second time. This design allows a precise measurement of changes in customer experience over time. The rotating panels and their impact on respondents are described in more detail in the table below.

Table 1—The Rotating Panel
Panel 1 | Holdover panel from the previous year, respondents are surveyed once in Wave 1.
Panel 2 | Wave 1 and Wave 2 in the current year, respondents are surveyed in both waves.
Panel 3 | New panel in the current year, respondents are only surveyed once in Wave 2.

The Patents External Quality Survey is a web-based survey. The USPTO sends potential respondents either an email or mailed pre-survey letter, depending on the respondent's preferred method of contact. At the beginning of each survey period, the USPTO provides respondents with instructions for accessing and completing the survey electronically. After a specified response period, the USPTO sends a reminder to all sample members who have not yet submitted a response. The USPTO also uses reminder/thank-you postcards and telephone calls to encourage a response from sample members.

Forms:

• PTO/2535 (External Quality Survey)

Type of Review: Extension and revision of a currently approved information collection.

Affected Public: Private sector.

Respondent's Obligation: Voluntary.

Frequency: On occasion.

Estimated Number of Annual Respondents: 750 respondents.

Estimated Number of Annual Responses: 1,000 responses.

Estimated Time per Response: The USPTO estimates that the responses in this information collection will take the public approximately 10 minutes (0.17 hours) complete. This includes the time to gather the necessary information, create the document, and submit the completed item to the USPTO.

Estimated Total Annual Respondent Burden Hours: 171 hours.

Estimated Total Annual Respondent Non-Hourly Cost Burden: $0. The USPTO covers the costs of all survey materials.

Justin Isaac,
Information Collections Officer, Office of the Chief Administrative Officer, United States Patent and Trademark Office.

[FR Doc. 2025-13811 Filed 7-22-25; 8:45 am]

BILLING CODE 3510-16-P